DEPARTMENT OF LABOR

Employment and Training Administration

[TA-W-64,346]

Casey Tool & Machine Co., Inc., 815 Reasor Road, Charleston, IL; Notice of Termination of Investigation

Pursuant to Section 221 of the Trade Act of 1974, as amended, an investigation was initiated on November 4, 2008, in response to a worker petition filed a One-stop operator on behalf of workers at Casey Tool & Machine Co., Inc., 815 Reasor Road, Charleston, Illinois.

All workers of the subject firm are covered by an active certification (TA-W-64,151A (amended)), which does not expire until October 22, 2010. Consequently, further investigation in this case would serve no purpose, and the investigation has been terminated.

Signed at Washington, DC this 20th day of November 2008.
Linda G. Poole,
Certifying Officer, Division of Trade Adjustment Assistance.

[FR Doc. E8-29173 Filed 12-9-08; 8:45 am]

BILLING CODE 4510-FN-P